DEPARTMENT OF STATE

[Public Notice:12507]

Designation of Four Entities Contributing to Ballistic Missile Proliferation Pursuant to Executive Order 13382

ACTION: Notice of designation.

SUMMARY: The Department of State is publishing the names of one or more persons that have been placed on the Department of Treasury's List of Specially Designated Nationals and Blocked Persons (SDN List) administered by the Office of Foreign Assets Control (OFAC) based on the Department of State's determination, in consultation with other departments, as appropriate, that one or more applicable legal criteria of the Executive Order (E.O.) regarding blocking property of weapons of mass destruction proliferators and their supporters were satisfied. All property and interests in property subject to U.S. jurisdiction of these persons are blocked, and U.S. persons are generally prohibited from engaging in transactions with them.

DATES: See SUPPLEMENTARY INFORMATION section for applicable date(s).

FOR FURTHER INFORMATION CONTACT: Thomas Zarzecki, Director, Office of Counterproliferation Initiatives, Bureau of International Security and Nonproliferation, Department of State, Washington, DC 20520, tel.: 202-647-5193; email: ISN_Sanctions@state.gov.

SUPPLEMENTARY INFORMATION:

Electronic Availability

The SDN List and additional information concerning sanctions programs are available on OFAC's website (https://www.treasury.gov/ofac).

Notice of Department of State Actions

On April 19, 2024, the Department of State, in consultation with other departments, as appropriate, determined that the property and interests in property subject to U.S. jurisdiction of the following persons are blocked under the relevant sanctions authority listed below.

Gonzalo O. Suarez,
Deputy Assistant Secretary, Bureau of International Security and Nonproliferation, Department of State.

[FR Doc. 2024-19167 Filed 8-26-24; 8:45 am]

BILLING CODE 4710-27-P